DEPARTMENT OF ENERGY

Federal Energy Regulatory Commission

[Project No. 2552-081]

FPL Energy Maine Hydro LLC; Notice of Application to Amend License and Soliciting Comments, Motions To Intervene, and Protests

May 2, 2008.

Take notice that the following hydroelectric application has been filed with the Commission and is available for public inspection:

a. Application Type: Request for Approval of Full Dam Removal in Lieu of Partial Removal.

b. Project No.: 2552-081.

c. Date Filed: April 17, 2008.

d. Applicant: FPL Energy Maine Hydro LLC.

e. Name of Project: Fort Halifax Hydroelectric Project.

f. Location: The project is located on the Sebasticook River in Kennebec County, Maine.

g. Filed Pursuant to: Federal Power Act, 16 U.S.C. 791a-825r.

h. Applicant Contact: Dave Dominie, TRC Companies, Inc., 249 Western Avenue, Augusta, ME 04330, Tel: (207) 621-7084.

i. FERC Contact: Andrea Claros, Tel: (202) 502-8171, and e-mail: andrea.claros@ferc.gov.

j. Deadline for filing comments, motions to intervene, and protest: June 2, 2008.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: On January 23, 2004, the Commission approved FPL Energy's application for surrender of license for the Fort Halifax Hydroelectric Project and ordered that the dam be partially removed. As a result of discussions with the Town of Winslow, Maine, FPL Energy is now requesting Commission approval to remove the entirety of the existing dam spillway, including all spillway bays, totaling approximately 330 linear feet, using mechanical demolition methods, in lieu of the approved partial removal. In order to facilitate the full removal process, the pre-breach drawdown period will be extended to two weeks and the post-breach drawdown period will be extended to one week.

Given that the Commission has already issued a final decision on the surrender of the Fort Halifax Project and ordered partial removal, the issue before the Commission with regard to this filing is the proposed full removal of the dam as opposed to the approved partial removal of the dam.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov; for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number (P-2552-081) of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Kimberly D. Bose,
Secretary.

[FR Doc. E8-10304 Filed 5-8-08; 8:45 am]

BILLING CODE 6717-01-P